DEPARTMENT OF HOUSING AND URBAN DEVELOPMENT

[Docket No. FR-6132-D-02]

Delegation of Authority to the Principal Deputy Assistant Secretary for the Office of Administration

AGENCY: Office of the Deputy Secretary, HUD.

ACTION: Notice of delegation of authority.

SUMMARY: Through this notice, the Deputy Secretary delegates to the Principal Deputy Assistant Secretary for Administration authority and responsibility for the coordination, management and supervision for the following offices: Chief Human Capital Officer, Chief Procurement Officer, and Chief Administrative Officer.

DATES: Applicable October 18, 2018.

FOR FURTHER INFORMATION CONTACT: John B. Shumway, Assistant General Counsel for Administrative Law, Office of General Counsel, Department of Housing and Urban Development, 451 7th Street SW, Room 9262, Washington, DC 20410-0500, telephone number 202-402-5190. (This is not a toll-free number.) Individuals with speech or hearing impairments may access this number through TTY by calling 1-800-877-8339.

SUPPLEMENTARY INFORMATION: On January 5, 2018, the Deputy Secretary delegated authority to the Assistant Secretary for Administration (January 26, 2018, 83 FR 3764). On April 17, 2018 (83 FR 16897), the Assistant Secretary for Administration redelegated concurrent authority to the General Deputy Assistant Secretary for Administration. The January 4, 2018, delegation of authority and April 17, 2018, redelegation of authority remain intact. Through this delegation, with noted exceptions, the Deputy Secretary delegates to the Principal Deputy Assistant Secretary for Administration concurrent authority with the Assistant Secretary for Administration and the General Deputy Assistant Secretary for Administration to coordinate, manage and supervise the activities of the offices of the Chief Human Capital Officer, the Chief Procurement Officer, and the Chief Administrative Officer.

This delegation of authority does not include the authority to perform the duties and functions of the Chief Acquisition Officer, who is designated by the Deputy Secretary by separate notice.

Section A. Authority

The Deputy Secretary hereby delegates to the Principal Deputy Assistant Secretary for Administration the concurrent authority to coordinate, manage and supervise the activities of the following offices and functions, subject to the exceptions described in Section B.

1. Office of the Chief Human Capital Officer: This office is responsible for employee performance management; executive resources; human capital headquarters and field support; human capital policy; planning and training; recruitment and staffing; personnel security; employee assistance program; health and wellness; employee and labor relations; pay; benefits and retirement; and human capital information systems. More detailed information can be found in the delegation of authority notice for the Chief Human Capital Officer, posted at https://www.hud.gov/sites/documents/5562-D-01_DELEGATION.PDF.

2. Office of the Chief Procurement Officer: This office is responsible for obtaining all contracted goods and services required by the Department efficiently and in the most cost-effective manner possible to enable the Department to meet its strategic objectives. The office provides logistical support to HUD's program offices and other support offices in meeting their mission needs and provides leadership on developing fundamentally sound business practices. This redelegation does not include the authority to perform the duties and functions of the Chief Acquisition Officer, which is designated in a separate notice, most recently in the Federal Register at 83 FR 3765 (January 26, 2018). The functions of the Chief Acquisition Officer are outlined at 41 U.S.C. 1702.

3. Office of the Chief Administrative Officer: This office is responsible for headquarters and field support services, Executive Secretariat and compliance functions (including privacy, records, and Freedom of Information Act compliance), facilities management, disaster management, national security, security of the Secretary, Deputy Secretary, and of the various HUD buildings, and communication support services, including digital and multimedia. More detailed information can be found in the delegation of authority notice for the Chief Administrative Officer, posted at https://www.hud.gov/sites/documents/DOAADMIN071814.PDF.

Section B. Authority Excepted

The Principal Deputy Assistant Secretary is not authorized to exercise the following authorities:

1. Taking any actions where Congressional notification is statutorily required.

2. Making policy changes to Senior Executive Service performance management.

3. Authorizing procurements for the Office of Administration that exceed $50 million.

4. Approving HUD acceptance of Federal Emergency Management Agency (FEMA) mission assignments.

These authorities are retained by the Secretary and Deputy Secretary.

Section C. Authority To Redelegate

The Principal Deputy Assistant Secretary for Administration is authorized to redelegate to employees of HUD any of the authorities delegated under Section A above, subject to the exceptions described in Section B.

Section D. Authority Not Superseded

This delegation does not supersede the previous delegation of authority from the Deputy Secretary to the Assistant Secretary of Administration, which was published in the Federal Register on January 26, 2018, at 83 FR 3764, and the redelegation of concurrent authority to the General Deputy Assistant Secretary for Administration, published in the Federal Register on April 17, 2018 at 83 FR 16897.

Authority: Section 7(d), Department of Housing and Urban Development Act (42 U.S.C. 3535(d)).

Dated: October 18, 2018.
Pamela H. Patenaude,
Deputy Secretary.

[FR Doc. 2018-23238 Filed 10-23-18; 8:45 am]

BILLING CODE 4210-67-P